DEPARTMENT OF TRANSPORTATION

Federal Aviation Administration

14 CFR Part 71

[Docket No. FAA-2020-0944; Airspace Docket No. 20-ACE-26]

RIN 2120-AA66

Amendment of V-67, V-190, and V-429; Establishment of T-312; and Revocation of V-125 and V-335 in the Vicinity of Marion, IL

AGENCY: Federal Aviation Administration (FAA), DOT.

ACTION: Final rule.

SUMMARY: This action amends VHF Omnidirectional Range (VOR) Federal airways V-67, V-190, and V-429; establishes Area Navigation (RNAV) route T-312; and removes VOR Federal airways V-125 and V-335 in the vicinity of Marion, IL. The Air Traffic Service (ATS) route modifications are necessary due to the planned decommissioning of the VOR portion of the Marion, IL, VOR/Distance Measuring Equipment (VOR/DME) navigation aid (NAVAID). With the exception of the RNAV route T-312, the Marion VOR/DME NAVAID provides navigation guidance for portions of the affected ATS routes. The VOR is being decommissioned as part of the FAA's VOR Minimum Operational Network (MON) program.

DATES: Effective date 0901 UTC, June 17, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2020-0944 in the Federal Register (85 FR 70532; November 5, 2020), amending VOR Federal airways V-67, V-190, and V-429; establishing RNAV route T-312; and removing VOR Federal airways V-125 and V-335 in the vicinity of Marion, IL. The proposed amendment, establishment, and revocation actions were due to the planned decommissioning of the VOR portion of the Marion, IL, VOR/DME NAVAID. Interested parties were invited to participate in this rulemaking effort by submitting written comments on the proposal. No comments were received.

Subsequent to the NPRM, the FAA published a NPRM correction for Docket No. FAA-2020-0944 in the Federal Register (85 FR 72612; November 13, 2020), correcting the airspace docket number for this action that was published in the NPRM. The correction changed all of the airspace docket number references from “20-AGL-26” to “20-ACE-26.” The correct airspace docket number for this action is 20-ACE-26 and is included in this rule.

VOR Federal airways are published in paragraph 6010(a) and RNAV T-routes are published in paragraph 6011 of FAA Order 7400.11E, dated July 21, 2020, and effective September 15, 2020, which is incorporated by reference in 14 CFR 71.1. The VOR Federal airways listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by modifying VOR Federal airways V-67, V-190, and V-429; establishing RNAV route T-312; and removing VOR Federal airways V-125 and V-335. The planned decommissioning of the VOR portion of the Marion, IL, VOR/DME NAVAID has made this action necessary.

The VOR Federal airway changes are outlined below.

V-67: V-67 extends between the Choo Choo, TN, VOR/Tactical Air Navigation (VORTAC) and the Shelbyville, TN, VOR/DME; and between the Cunningham, KY, VOR/DME and the Rochester, MN, VOR/DME. The airway segment overlying the Marion, IL, VOR/DME between the Cunningham, KY, VOR/DME and the Centralia, IL, VORTAC is removed due to the Marion VOR being decommissioned. Additionally, the airway segment between the Centralia, IL, VORTAC and the intersection of the Centralia, IL, VORTAC 010° and Vandalia, IL, VOR/DME 162° radials (CORKI fix) is also removed due to V-313 overlaying the same airway segment. The unaffected portions of the existing airway remain as charted.

V-125: V-125 extends between the intersection of the Farmington, MO, VORTAC 046° and Marion, IL, VOR/DME 282° radials (NIKEL fix) and the St Louis, MO, VORTAC. The airway is removed in its entirety.

V-190: V-190 extends between the Phoenix, AZ, VORTAC and the Pocket City, IN, VORTAC. The airway segment overlying the Marion, IL, VOR/DME between the Farmington, MO, VORTAC and the Pocket City, IN, VORTAC is removed. The unaffected portions of the existing airway remain as charted.

V-335: V-335 extends between the St Louis, MO, VORTAC and the Marion, IL, VOR/DME. The airway is removed in its entirety.

V-429: V-429 extends between the Marion, IL, VOR/DME and the Bible Grove, IL, VORTAC; and between the Champaign, IL, VORTAC and the Joliet, IL, VOR/DME. The airway segment overlying the Marion, IL, VOR/DME between the Marion, IL, VOR/DME and the Bible Grove, IL, VORTAC is removed. The unaffected portions of the existing airway remain as charted.

The new RNAV T-route is outlined below.

T-312: T-312 is a new route that extends between the Hill City, KS, VORTAC and the Pocket City, IN, VORTAC. This RNAV route mitigates the loss of the V-190 airway segment removed between the Farmington, MO, VORTAC and the Pocket City, IN, VORTAC as noted above and provides RNAV routing capability from the Hill City, KS, area eastward to the Pocket City, IN, area.

All NAVAID radials in the VOR Federal airway descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying VOR Federal airways V-67, V-190, and V-429; establishing RNAV route T-312; and removing VOR Federal airways V-125 and V-335, due to the planned decommissioning of the VOR portion of the Marion, IL, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-67 [Amended]

From Choo Choo, TN; to Shelbyville, TN. From INT Centralia, IL, 010° and Vandalia, IL, 162° radials; Vandalia; Spinner, IL; Burlington, IA; Iowa City, IA; Cedar Rapids, IA; Waterloo, IA; to Rochester, MN.

* * * * *

V-125 [Removed]

* * * * *

V-190 [Amended]

From Phoenix, AZ; St. Johns, AZ; Albuquerque, NM; Fort Union, NM; Dalhart, TX; Mitbee, OK; INT Mitbee 059° and Pioneer, OK, 280° radials; Pioneer; INT Pioneer 094° and Bartlesville, OK, 256° radials; Bartlesville; INT Bartlesville 075° and Oswego, KS, 233° radials; Oswego; INT Oswego 085° and Springfield, MO, 261° radials; Springfield; Maples, MO; to Farmington, MO.

* * * * *

V-335 [Removed]

* * * * *

V-429 [Amended]

From Champaign, IL; Roberts, IL; to Joliet, IL.

* * * * *

Paragraph 6011 United States Area Navigation Routes.

* * * * *

T-312 Hill City, KS (HLC) to Pocket City, IN (PXV) [New]
Hill City, KS (HLC) | VORTAC | (Lat. 39°15′31.49″ N, long. 100°13′33.06″ W)
MOZEE, KS | WP | (Lat. 38°50′51.20″ N, long. 099°16′35.85″ W)
Hutchinson, KS (HUT) | VOR/DME | (Lat. 37°59′48.91″ N, long. 097°56′02.94″ W)
DROOP, MO | FIX | (Lat. 37°06′09.12″ N, long. 094°26′42.39″ W)
Dogwood, MO (DGD) | VORTAC | (Lat. 37°01′24.49″ N, long. 092°52′36.92″ W)
REINS, MO | WP | (Lat. 37°33′35.84″ N, long. 090°43′00.70″ W)
Farmington, MO (FAM) | VORTAC | (Lat. 37°40′24.46″ N, long. 090°14′02.61″ W)
JEDPA, IL | WP | (Lat. 37°50′22.09″ N, long. 088°41′05.55″ W)
Pocket City, IN (PXV) | VORTAC | (Lat. 37°55′41.95″ N, long. 087°45′44.57″ W)

* * * * *

Issued in Washington, DC, on March 24, 2021.
George Gonzalez,
Acting Manager, Rules and Regulations Group.

[FR Doc. 2021-06390 Filed 3-26-21; 8:45 am]

BILLING CODE 4910-13-P